DEPARTMENT OF COMMERCE

Census Bureau

2006 Census Test

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before July 5, 2005.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Edison Gore, Acting Division Chief, Decennial Management Division, U.S. Census Bureau, Building 2, Room 2102, Washington, DC 20233-9200, (301) 763-3998.

SUPPLEMENTARY INFORMATION:

I. Abstract

Background

In order to design and implement an optimal short-form-only 2010 Census, the Census Bureau has adopted a robust incremental and iterative research, development, and testing program. This program includes several special purpose tests (e.g., cognitive tests for the wording of the race and Hispanic origin questions), two national mail-out/mail-back tests (the 2003 National Census Test and the 2005 National Census Test), two site tests (2004 Census Test and the 2006 Census Test), and a 2008 Dress Rehearsal in preparation for the actual 2010 Census.

The 2003 National Census Test was the first major test that we conducted in preparation for the 2010 Census. This was a two-part mail-out/mail-back test designed to evaluate alternative self-response options (paper, Internet, and telephone) and alternative presentations of the race and Hispanic origin questions. For more information, see Federal Register: June 7, 2002 (Volume 67, Number 110).

In 2004, we implemented a site test (the 2004 Census Test) that was used chiefly to examine the feasibility of collecting personal information using a Hand Held computer (HHC). It also studied new methods to improve coverage, including procedures for reducing duplication, and tested respondent reaction to revised race and Hispanic origin questions, examples, and instructions, including the removal of the Some other race option. For more information, see Federal Register: July 11, 2003 (Volume 68, Number 133).

The 2005 National Census Test, which is scheduled to begin in late summer of 2005 (Census Day is September 15, 2005), is a mail-out/mail-back test designed to evaluate alternative treatments including:

Procedures intended to improve the completeness and accuracy of reporting for short form items, especially the wording of the race and Hispanic origin questions;

1. The presentation of residence rules and other questionnaire items designed to make sure that everyone is counted only once and in the right place;

2. The effects of a bilingual Spanish/English questionnaire on response rates;

3. The feasibility of various replacement questionnaire mailing options and methods; and

4. The effects of questionnaire design improvements on data quality.

This test will be our last chance to test content on this scale in preparation for the 2010 Census. Although results from this test will not be available in time for use in planning the 2006 Census Test, they will be used to make content decisions for the 2010 Census (no later than January 2007). For more information, see Federal Register: November 1, 2004 (Volume 69, Number 210).

2006 Census Test

Building upon the results of the 2004 Census Test, the 2006 Census Test will help the U.S. Census Bureau achieve one of its Strategic Goals—developing a census that is cost-effective, improves coverage, and reduces operational risk. The objectives of the 2006 Census Test include studying methods for:

• Improving enumeration on American Indian Reservations;

• Improving coverage, including procedures to address overall coverage of population and housing and procedures to address duplication;

• Increased use of automation for data collection, including using Hand Held Computers (HHCs) for updating addresses and geographic features. The HHCs also will have expanded functionality and usability that will improve their utility during data collection followup operations;

• Addressing the needs of respondents who speak a language other than English by mailing Bilingual Questionnaires and Language Assistance Guides; and

• Improving self-response by delivering targeted replacement questionnaires and using motivational language on mailing pieces.

The Census Bureau will conduct three other operations as part of the 2006 Census Test—the 2006 Census Test Group Quarters Validation/Advance Visit operation, the 2006 Coverage Followup operation, and the 2006 Coverage Measurement operation. Brief descriptions of these operations are include below for reference purposes. These operations will be submitted to OMB separately.

The 2006 Census Test Group Quarters Validation/Advance Visit operation is designed to verify and update the Census 2000 GQ inventory in the test sites and verify information about the group quarters such as to verify the group quarter's name, address, and geocode information. This operation also will collect additional information (e.g., asking for the expected Census Day population). In addition, the enumerators will explain the purpose of the enumeration, determine if there are any security issues that need to be resolved, and address any privacy issues expressed by the facility's staff and make an appointment for the group quarters enumeration. Additional information, such as dates and times open and meals served will be obtained for service-based facilities.

The Coverage Followup operation is designed to improve coverage by collecting additional information from households which might have coverage problems. This includes households where persons may have been counted more than once (e.g., students who are counted at their parents' home but also counted where they reside while they are attending school) and persons who might not have been included in the household count (e.g., newborn babies or roommates). This operation also will contact large households (those with more than six persons listed on their mail-back questionnaires) in order to ensure that everyone in included in the census. Another category of households that we will attempt to contact will be those that contain persons identified on administrative records but were included on their census questionnaire. Finally, this operation will include households where the count of persons does not equal the number of persons for which census data are provided.

The 2006 Coverage Followup will be conducted in two phases, telephone and personal visit. During the telephone phase, we will attempt to contact the households noted above from our call centers and complete a Coverage Followup web-based questionnaire. For cases not resolved during the telephone phase, field enumerators will visit the households and administer a paper Coverage Followup questionnaire.

The Coverage Measurement program is intended to measure the coverage of the census. In the 2006 Census Test, two field components of the Coverage Measurement Program will be conducted—the Person Interview and the Person Followup. The Person Interview instrument will collect data from a sample of households which we will compare to the data collected by the census questionnaire. In certain cases of inconsistencies, the Person Followup will be conducted to clarify the situation. The data from the Coverage Measurement Program are intended to measure erroneous enumerations and persons that were missed when they should have been counted. In the 2006 Census Test, changes to these operations are being tested so they will not be used to formally assess the coverage of the 2006 Census Test enumeration.

We will conduct the 2006 Census Test in two sites, one urban and one rural. The urban site, Travis County 2006 Census Test site, will consist of the central portion of Travis County, Texas. The rural site, the Cheyenne River Reservation American Indian Reservation and Tribal Trust Lands, is located in South Dakota. These sites were selected because they contain demographic characteristics associated with specific test objectives that will support key research questions and evaluation requirements. Plans for this test are subject to Congressional appropriation of requested funds.

II. Method of Collection

Both sites combined contain about 200,000 housing units and a variety of group quarters. The temporary field office that we will establish in each site will manage staffing, training, and the data collection.

Prior to the actual enumeration, enumerators will conduct Address Canvassing in both sites using HHCs. They will attempt to contact every structure that is or could be a place where people live or stay (including Other Living Quarters which may be Group Quarters or housing units) in order to update the maps and address lists that we will use for conducting the enumeration.

This test will be the first time that we have attempted to automate the Address Canvassing operation by using HHCs. An automated process which will capture address and geographic feature updates in real time will be faster than updating the lists and geographic features manually and will reduce the costs and clerical errors that result from keying and digitizing. We also will use the results of Address Canvassing to continue the process of integrating the address list for Group Quarters with the address list for housing units in order to reduce duplication and geographic errors and improve data quality for Group Quarters. The 2006 Census Test also will include our first attempt to collect GPS coordinates for structures during the Address Canvassing operation.

We will use different enumeration procedures for each site. We will enumerate the rural site using the Update/Enumerate method—a method of data collection designed for communities like the Cheyenne River Reservation with special enumeration needs and where many housing units may not have house-number-and-street-name mailing addresses.

During Update/Enumerate, enumerators will update the addresses and maps as they visit each address in their assignment areas, and then enumerate the residents during the same visit. This operation is scheduled to occur between March 13, 2006 and May 12, 2006.

Respondents in the urban site (Travis County 2006 Census Test site) will receive their questionnaires by mail. The enumeration strategy that we will use for this site will be similar to the one that we used in mail-out/mail-back areas in the 2004 Census Test. The multi-part mailing strategy will consist of an advance letter, an initial mailing package, a blanket reminder post card, and a replacement questionnaire package.

In order to test the effect of deadline messages, some respondents will receive mailings that include progressively stronger deadline messaging to encourage respondents to complete and mail back their forms prior to the cut-off date for Nonresponse Followup. All mailing pieces will be delivered by the United States Postal Service (USPS) via first class postage.

The advance letter will be delivered between March 8, 2006 and March 10, 2006. This letter will inform respondents that they will soon receive a census form. About a week later, each address in the Travis County 2006 Census Test site will receive an initial mailing package that includes the questionnaire. The questionnaires for some areas will be in English, while housing units in other areas will receive a bilingual (English/Spanish) form. We will use this design to test the impact of a bilingual questionnaire on response rates and data quality. In addition, the questionnaire mailing package for certain census tracts also will contain a language assistance guide designed to aid respondents whose primary language is other than English. We are including these guides in the initial questionnaire mailing for some tracts so that we can study the effect of the guides on response rates. Approximately one week after the initial questionnaires have been delivered, the USPS will deliver a blanket reminder post card to each address. This postcard will serve as a thank-you for respondents who have mailed back the questionnaire and will be a reminder for those who have not. About 10 days after the reminder postcard is delivered, each address from which we have not received a questionnaire will receive a targeted replacement questionnaire package.

Two to three weeks after Census Day (April 1, 2006), we will begin to identify the universe of addresses in the Travis County 2006 Census Test site from which we have not yet received a census response. Enumerators equipped with HHCs will visit each of these addresses between April 24, 2006 and July 15, 2006, in order to complete a census questionnaire. Enumerators will determine the Census Day status of the unit and complete a questionnaire on their HHCs based on that status. Enumerators also will complete a census questionnaire for any address that they find in their assignment areas which is not shown on their assignment lists.

The assignment lists, as well as the questionnaires and maps, will be in electronic, rather than paper form. These enumeration materials will be stored and updated as necessary on their HHCs. Each enumerator's assignment list will be updated daily to remove addresses from which a census response is received by mail after the universe identification. Updating the enumerators' assignment lists daily could reduce respondent burden as well as the cost of Nonresponse Followup by eliminating unnecessary visits to housing units that have already been enumerated.

Nonresponse Followup will incorporate several quality checks. Among these is the Vacant-Delete Check—an independent followup of all addresses classified as vacant or nonexistent for the first time during Nonresponse Followup. These addresses will be reassigned to an enumerator other than the enumerator who made the original classification. The Vacant-Delete Check enumerators will verify the Census Day status of the assigned addresses and complete a short form questionnaire that reflects the Census Day status. This operation also will be conducted using HHCs equipped with the same functionality that we use to conduct Nonresponse Followup. Other quality check procedures conducted during this operation include an independent re-interview of a portion of an enumerator's' completed cases.

Although most individuals live in conventional housing units, others live in group living situations, (i.e., college residence halls or shelters for people experiencing homelessness) and will not be enumerated using the mail-out/mail-back method. We will enumerate these individuals using the Group Quarters Enumeration operation (April 3, 2006 to May 19, 2006) and the Service-Based Enumeration operation, which will be conducted from March 20, 2006 to March 31, 2006.

During the Group Quarters Enumeration operation, enumerators will visit group quarters in order to verify address information about the group quarters, develop a control list of all residents, and distribute questionnaires for completion. Within a few days, the same enumerator will return to the GQ to collect the completed questionnaires. In order to obtain a complete count for everyone who uses the facility, the enumerator will ask the GQ contact to supply information for any individual on the control list who did not complete a questionnaire.

The Service-Based Enumeration is designed to enumerate people experiencing homelessness who may be missed in the traditional enumeration of housing units and group quarters. As in Census 2000, people will be enumerated at places where they receive services such as meals, or a bed for the night. Service-Based Enumeration facilities for the 2006 Census Test will include only shelters (emergency and transitional shelters, hotels and motels providing shelter for people experiencing homelessness) and soup kitchens in order to test new procedures for enumerating this population. Enumerators will visit these facilities a maximum of two times during the enumeration period and enumerate the clients who are using the service at the time of the enumerator's visit.

Respondents in both sites will be able to call our existing call centers' toll-free telephone numbers to obtain information about the questionnaire and the 2006 Census Test. This service will be available in English, Spanish, and Telephone Device for the Deaf.

III. Data

OMB Number: None.

Form Number: DD-1 (Initial Mailout/Mailback Questionnaire), DD-1(R) (Replacement Mailout/Mailback Questionnaire), DD-1(E) (Update/Enumerate Questionnaire), DD-1(E)SUPP (Update/Enumerate Supplemental Questionnaire—for large households), DD-1(E)R (Update/Enumerate Reinterview Questionnaire), DD-15 (Service-Based Enumeration Individual Census Questionnaire), DD-20 (Group Quarters Individual Census Report), DD-1(E/S) (Bilingual Mailout/Mailback Questionnaire).

Type of Review: Regular.

Affected Public: Individuals, businesses or other for-profit organizations, non-profit institutions, and small businesses or organizations.

Estimated Number of Respondents: Approximately 200,000 housing units. Approximately 35,200 residents in Group Quarters. Approximately 800 residents in Service-Based Enumeration facilities.

Estimated Time Per Response: All questionnaires will require approximately 10 minutes for response.

Estimated Total Annual Burden Hours: Approximately 34,000 hours for the housing units that responded by mail or during Nonresponse Followup (plus a five percent reinterview of the estimated 105,000 Nonresponse Followup workload) and 6,000 hours for Group Quarters Enumeration and Service-Based Enumeration.

Estimated Total Annual Cost: There is no cost to respondents except for their time to respond.

Respondent's Obligation: Mandatory.

Legal Authority: Title 13 of the United States Code, sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 29, 2005.
Madeleine Clayton,
Management Analyst, Office of the Chief Information Officer.

[FR Doc. 05-8854 Filed 5-3-05; 8:45 am]

BILLING CODE 3510-07-P